DEPARTMENT OF COMMERCE

International Trade Administration

Travel and Tourism Trade Mission to Russia, September 15-19, 2014

AGENCY: International Trade Administration, Department of Commerce.

ACTION: Notice.

SUMMARY: The United States Department of Commerce, International Trade Administration, Industry and Analysis is amending its notice for the Travel and Tourism Trade Mission to Russia scheduled for September 15-19, 2014, published at 79 FR 11764, March 3, 2014, to notify potential applicants that recruitment has been suspended until further notice.

FOR FURTHER INFORMATION CONTACT: Frank Spector, Office of Industry and Analysis, Trade Promotion Programs, Phone: 202-482-2054; Fax: 202-482-9000, Email: Frank.Spector@trade.gov.

SUPPLEMENTARY INFORMATION: On March 3, 2014, the International Trade Administration published a notice in the Federal Register (79 FR 11764) announcing an Executive-led trade mission to Moscow and St. Petersburg, Russia with an optional stop in Yekaterinburg, Russia, to be held September 15-19, 2014. The notice provided that recruitment for the mission would begin immediately and would conclude July 15, 2014. This notice suspends recruitment for the mission until further notice. Applications received during the period in which recruitment is suspended will be returned to the applicants.

Frank Spector,
Senior International Trade Specialist.

[FR Doc. 2014-06110 Filed 3-19-14; 8:45 am]

BILLING CODE 3510-DR-P